DEPARTMENT OF COMMERCE

International Trade Administration

[A-489-833]

Large Diameter Welded Pipe From the Republic of Turkey: Final Results of Antidumping Duty Administrative Review and Final Determination of No Shipments; 2021-2022

AGENCY: Enforcement and Compliance, International Trade Administration, Department of Commerce.

SUMMARY: The U.S. Department of Commerce (Commerce) determines large diameter welded pipe (welded pipe) from the Republic of Turkey (Turkey) is not being sold in the United States at less than normal value during the period of review (POR) May 1, 2021, through April 30, 2022. Additionally, Commerce determines that four companies for which we initiated a review had no shipments during the POR.

DATES: Applicable September 7, 2023.

FOR FURTHER INFORMATION CONTACT: Ajay Menon, AD/CVD Operations, Office IX, Enforcement and Compliance, International Trade Administration, U.S. Department of Commerce, 1401 Constitution Avenue NW, Washington, DC 20230; telephone: (202) 482-0208.

SUPPLEMENTARY INFORMATION:

Background

On September 1, 2022, Commerce published the Preliminary Results and invited comments from interested parties.¹ No interested party submitted comments. Accordingly, as the final results remain unchanged from the Preliminary Results, there is no decision memorandum accompanying this notice. Commerce conducted this administrative review in accordance with section 751 of the Tariff Act of 1930, as amended (the Act).

¹ See Large Diameter Welded Pipe from the Republic of Turkey: Preliminary Results of Antidumping Duty Administrative Review and Preliminary Determination of No Shipments; 2021-2022, 88 FR 37017 (June 6, 2023) (Preliminary Results), and accompanying Preliminary Decision Memorandum (PDM).

Scope of the Order ²

² See Large Diameter Welded Pipe from the Republic of Turkey: Amended Final Affirmative Antidumping Duty Determination and Antidumping Duty Order, 84 FR 18799 (May 2, 2019) (Order).

The merchandise covered by this Order is welded pipe. For a complete description of the scope of the Order, see the Preliminary Results.³

³ See Preliminary Results PDM at 3.

Rate for Companies Not Selected for Individual Examination

The Act and Commerce's regulations do not address the establishment of a rate to be applied to companies not selected for individual examination when Commerce limits its examination in an administrative review pursuant to section 777A(c)(2) of the Act. Generally, Commerce looks to section 735(c)(5) of the Act, which provides instructions for calculating the all-others rate in an investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

For these final results, we continue to determine that the weighted-average dumping margin for HDM Celik is zero percent. Therefore, consistent with our practice, we are applying a rate of zero percent to the companies not selected for individual examination because we calculated a rate of zero percent for the mandatory respondent.⁴ The companies not selected for individual examination are listed in the Appendix to this notice.

⁴ See Albemarle Corp. v. United States, 821 F.3d 1345 (Fed. Cir. 2016).

Final Determination of No Shipments

In the Preliminary Results, Commerce determined that four companies did not have suspended entries of subject merchandise during the POR.⁵ No parties commented on Commerce's preliminary no-shipments determination. Therefore, for these final results, we continue to determine that Cimtas, Noksel, Toscelik Profil, and Toscelik Spiral had no shipments of subject merchandise during the POR.

⁵ See Preliminary Results, 88 FR at 37017. These four companies are Çimtaş Boru Imalatiral Ticaret Ltd (Cimtas); Noksel Celik Boru Sanayi A.S. (Noksel); and Toscelik Profil ve Sac End. A.S. (AKA Toscelik Profile and Sheet Ind. Co.) (Toscelik Profil) and Toscelik Spiral Boru Uretim A.S. (Toscelik Spiral).

Final Results of Review

For these final results, we determine that the following weighted-average dumping margins exist for the period May 1, 2021, through April 30, 2022:

Exporter or producer | Weighted- average dumping margin (percent)
HDM Celik Boru Sanayi Ve Ticaret A.S | 0.00
Companies Not Selected for Individual Examination | 0.00

Disclosure

Normally, Commerce will disclose to the parties in a proceeding the calculations performed in connection with the final results of review within five days of any public announcement or, if there is no public announcement, within five days of the date of publication of the notice of final results in the Federal Register, in accordance with 19 CFR 351.224(b). However, because we have made no changes from the Preliminary Results, there are no new calculations to disclose.

Assessment Rates

Pursuant to section 751(a)(2)(C) of the Act and 19 CFR 351.212(b)(1), Commerce has determined, and U.S. Customs and Border Protection (CBP) shall assess, antidumping duties on all appropriate entries of subject merchandise in accordance with the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Commerce calculated a weighted-average dumping margin for HDM Celik of zero in the final results of this review. Accordingly, we intend to instruct CBP to liquidate the appropriate entries without regard to antidumping duties. For entries of subject merchandise during the POR produced by HDM Celik and for which HDM Celik did not know its merchandise was destined for the United States, we will instruct CBP to liquidate unreviewed entries at the all-others rate in the Amended Final Determination of the less-than-fair-value investigation (i.e., 1.57 percent),⁶ if there is no rate for the intermediate company(ies) involved in the transaction.⁷

⁶ See Large Diameter Welded Pipe from the Republic of Turkey: Notice of Court Decision Not in Harmony With Amended Final Determination in the Less-Than-Fair-Value Investigation; Notice of Amended Final Determination Pursuant to Court Decision; and Notice of Revocation of Antidumping Duty Order, in Part, 85 FR 35262, 35263 (June 9, 2020) (Amended Final Determination).

⁷ See Antidumping and Countervailing Duty Proceedings: Assessment of Antidumping Duties, 68 FR 23954 (May 6, 2003).

For the companies that were not selected for individual examination in this review, we have assigned them the weighted-average dumping margin calculated for HDM Celik (i.e., zero percent). Accordingly, we will instruct CBP to liquidate suspended entries during the POR for these companies without regard to antidumping duties. Finally, because we determined that Cimtas, Noksel, Toscelik Profil, and Toscelik Spiral had no shipments of subject merchandise during the POR, we will instruct CBP to liquidate any suspended entries that entered under their antidumping duty case numbers at the all-others rate, if there is no rate for the intermediate company(ies) involved in the transaction.

Cash Deposit Requirements

The following cash deposit requirements will be effective upon publication in the Federal Register of these final results of administrative review for all shipments of the subject merchandise entered, or withdrawn from warehouse, for consumption on or after the publication date, as provided by section 751(a)(2)(C) of the Act: (1) the cash deposit rate for the companies listed in the final results of review will be zero; (2) for previously reviewed or investigated companies not covered by this review, the cash deposit will continue to be the company-specific rate published for the most recently completed segment of this proceeding in which the company participated; (3) if the exporter is not a firm covered in this review, or the original investigation, but the producer is, then the cash deposit rate will be the rate established for the most recently completed segment for the producer of the subject merchandise; and (4) the cash deposit rate for all other producers and exporters will continue to be 1.57 percent, the all-others rate established in the Amended Final Determination.⁸ These cash deposit requirements, when imposed, shall remain in effect until further notice.

⁸ See Amended Final Determination, 85 FR at 35263.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to an administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and terms of an APO is a sanctionable violation.

Notification to Interested Parties

This notice is issued and published in accordance with sections 751(a)(1) and 777(i) of the Act, and 19 CFR 351.221(b)(5).

Dated: August 30, 2023.
Lisa W. Wang,
Assistant Secretary for Enforcement and Compliance.

Appendix

List of Companies Not Selected for Individual Examination

1. Borusan Mannesmann Boru Sanayi ve Ticaret A.S.⁹

⁹ Subject merchandise produced and exported by Borusan Mannesmann Boru Sanayi ve Ticaret A.S. (Borusan) was excluded from the order effective June 1, 2020. See Amended Final Determination, 85 FR at 35264. Commerce also stated in this notice that it would not initiate a new review of Borusan's entries. Accordingly, Borusan is only covered by this administrative review for subject merchandise produced in Turkey where Borusan acted as either the producer or exporter, but not both.

2. Borusan Istikbal Ticaret

3. Cagil Makina San ve Tic A.S. AKA Cagil Makina A.S.

4. Spirally Welded Steel Pipe Inc.

5. Emek Boru Makina Sanayi ve Ticaret A.S.

6. Erciyas Celik Boru Sanayi A.S.

7. Mazlum Mangtay Boru Son. Ins. Tar. Urn. San. ve Tic. A.S.

8. Ozbal Celik Boru San. Tic. Ve TAAH A.S.

9. Umran Celik Boru Sanayii A.S.

[FR Doc. 2023-19204 Filed 9-6-23; 8:45 am]

BILLING CODE 3510-DS-P